DEPARTMENT OF AGRICULTURE

Agricultural Marketing Service

7 CFR Part 42

Standards for Condition of Food Containers

CFR Correction

In Title 7 of the Code of Federal Regulations, Parts 27 to 52, revised as of January 1, 2013, on page 203, in § 42.132, in paragraph (a), in the table, for the entry 6.5, under “Reduced”, in column T, the entry “1” is added.

[FR Doc. 2013-30654 Filed 12-20-13; 8:45 am]

BILLING CODE 1505-01-D